DEPARTMENT OF VETERANS AFFAIRS

Research Advisory Committee on Gulf War Veterans' Illnesses, Amended Notice of Meeting

The Department of Veterans Affairs (VA) gives notice under the Federal Advisory Committee Act, 5 U.S.C. Ch. 10., that the Research Advisory Committee on Gulf War Veterans' Illnesses will meet by teleconference on March 13-14, 2025. The meeting sessions will begin and end as follows:

Date | Time: Eastern time zone (ET)
May 13, 2025 | 9:00 a.m.-4:30 p.m.
May 14, 2025 | 9:00 a.m.-12:00 noon.

All sessions will be available to the public by connecting to Webex at the following URLs: May 13, 2025, 9:00 a.m. to 4:30 p.m. (ET), https://veteransaffairs.webex.com/veteransaffairs/j.php?MTID=m4bc9353f2ed5d501c073d5fa180ac894. Or, join by phone: 1-833-558-0712 Toll-free. Meeting access code: 2824 514 5988. Meeting password: GWvets1991!

May 14, 2025, 9:00 a.m. to 12:00 noon (ET), https://veteransaffairs.webex.com/veteransaffairs/j.php?MTID=m28f3dca07f0bcea6a4f77e62f352389c. Or, join by phone: 1-833-558-0712 Toll-free. Meeting access code: 2819 527 4020. Meeting password: GWvets1991!

The purpose of the Committee is to provide advice and make recommendations to the Secretary of Veterans Affairs on proposed research studies, research plans, and research strategies relating to the health consequences of military service in the Southwest Asia theater of operations during the Gulf War in 1990-91.

On May 13-14, 2025, the Committee will focus on discussion of the Gulf War roadmap and strategic planning.

The meeting will include time reserved for public comments before the meeting closes on May 13, 2025. As time is limited, individuals wishing to make public comments can contact VARACGWVI@va.gov in advance to reserve time during the public comment period or submit written comments (max. 2-pages). Each public comment speaker will be held to a 3-5 minute time limit as time permits. Individuals wishing to seek additional information should contact Dr. Karen Block, Designated Federal Officer, at Karen.Block@va.gov.

Dated: April 28, 2025.
LaTonya L. Small,
Federal Advisory Committee Management Officer.

[FR Doc. 2025-07596 Filed 4-30-25; 8:45 am]

BILLING CODE 8320-01-P